EXPORT-IMPORT BANK OF THE UNITED STATES

Sunshine Act Meeting

ACTION: Notice of Open Meeting of the Advisory Committee of the Export-Import Bank of the United States (Ex-Im Bank)

SUMMARY: The Advisory Committee was established by Public Law 98-181, November 30, 1983, to advise the Export-Import Bank on its programs and to provide comments for inclusion in the reports of the Export-Import Bank of the United States to Congress.

TIME AND PLACE: Wednesday, May 21, 2014 from 11 a.m.-3 p.m. A break for lunch will be at the expense of the attendee. Security processing will be necessary for reentry into the building. The meeting will be held at Ex-Im Bank in the Main Conference Room 321, 811 Vermont Avenue NW., Washington, DC 20571.

Agenda will be a discussion of Ex-Im Bank's Annual Competitiveness Report to Congress, and Committee members will receive updates on the Bank's portfolio and other activities.

PUBLIC PARTICIPATION: The meeting will be open to public participation, and the last 10 minutes will be set aside for oral questions or comments. Members of the public may also file written statement(s) before or after the meeting. If you plan to attend, a photo ID must be presented at the guard's desk as part of the clearance process into the building, you may contact Richard Thelen at richard.thelen@exim.gov to be placed on an attendee list.

If any person wishes auxiliary aids (such as a sign language interpreter) or other special accommodations, please email Richard Thelen at richard.thelen@exim.gov prior to May 20, 2014.

MEMBERS OF THE PRESS: For members of the Press planning to attend the meeting, a photo ID must be presented at the guard's desk as part of the clearance process into the building please email Matthew Bevens at matthew.bevens@exim.gov to be placed on an attendee list.

FURTHER INFORMATION: Contact Niki Shepperd, 811 Vermont Avenue NW., Washington, DC 20571 at niki.shepperd@exim.gov

Cristopolis Dieguez,
Business Compliance Analyst.

[FR Doc. 2014-11586 Filed 5-15-14; 4:15 pm]

BILLING CODE 6690-01-P